DEPARTMENT OF DEFENSE

Office of the Secretary

[DOD-2006-OS-0070]

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

Effective Date: April 27, 2006.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

California

Installation Name: Onizuka Air Force Station.

LRA Name: City of Sunnyvale.

Point of Contact: Mr. Eric DeWees, Reuse Coordinator, City of Sunnyvale, Office of the City Manager.

Address: 456 West Olive Avenue, Sunnyvale, CA 94086.

Phone: (408) 730-7739.

Installation Name: Riverbank Army Ammunition Plant.

LRA Name: City County of Riverbank and the District 1 Board Supervisor of Stanislaus County.

Point of Contact: Ms. Margaret Silveira, Director of Housing and Economic Development, City of Riverbank.

Address: 6707 Third Street, Riverbank, CA 95367-2396.

Phone: (209) 863-7129.

Colorado

Installation Name: Buckley Annex.

LRA Name: Lowry Economic Redevelopment Authority.

Point of Contact: Mr. Thomas O. Markham, Executive Director.

Address: 555 Unita Way, Denver, CO 80230.

Phone: (303) 343-0276.

District of Columbia

Installation Name: Walter Reed Army Medical Center.

LRA Name: Government of the District of Columbia.

Point of Contact: Mr. Stanley Jackson, Deputy Mayor for Planning and Economic Development, District of Columbia.

Address: 1350 Pennsylvania Avenue, NW., Suite 317, Washington, DC 20004.

Phone: (202) 727-6365.

Georgia

Installation Name: Columbus U.S. Army Reserve Center #1.

LRA Name: Columbus Consolidated Government.

Point of Contact: Robert S. Poydasheff, Mayor of Columbus Consolidated Government.

Address: Post Office Box 1340, Columbus, GA 31902-1340.

Phone: (706) 653-4712.

Installation Name: Fort Gillem.

LRA Name: Forest Park/Fort Gillem Local Redevelopment Authority.

Point of Contact: Mr. Shane Short, Chairman.

Address: 2270 Mt. Zion Road, Jonesboro, GA 30236.

Phone: (678) 610-4021.

Indiana

Installation Name: Newport Chemical Depot.

LRA Name: Newport Chemical Depot Local Redevelopment Authority.

Point of Contact: Mr. Ed Cole, Executive Director, Vermillion County Economic Development Council.

Address: 2250 North Main Street, Clinton, IN 47842.

Phone: (765) 832-3870.

Ohio

Installation Name: Parrott U.S. Army Reserve Center Kenton.

LRA Name: Hardin County Local Redevelopment Authority.

Point of Contact: Mr. Russell Ludwig, Chairman.

Address: One Courthouse Square, Suite 100, Kenton, OH 43326.

Phone: (419) 674-2205.

Pennsylvania

Installation Name: Horsham Memorial U.S. Army Reserve Center.

LRA Name: Horsham Township Authority for NASJRB (Naval Air Station Joint Reserve Base).

Point of Contact: Mr. Michael J. McGee, Executive Director.

Address: 1025 Horsham Road, Horsham, PA 19044.

Phone: (215) 643-3131.

Installation Name: Naval Air Station Joint Reserve Base Willow Grove.

LRA Name: Horsham Township Authority for NASJRB (Naval Air Station Joint Reserve Base).

Point of Contact: Mr. Michael J. McGee, Executive Director.

Address: 1025 Horsham Road, Horsham, PA 19044.

Phone: (215) 643-3131.

Installation Name: Navy-Marine Corps Reserve Center Reading.

LRA Name: Reading Berks Public Safety Local Redevelopment Authority.

Point of Contact: Judith L. Schwank. County Commissioner Chair, County of Berks.

Address: Office of the Commissioners, Berks County Services Center—13th Floor, 633 Court Street, Reading, PA 19601-4310.

Phone: (610) 478-6100.

Michigan

Installation Name: U.S. Army Garrison Michigan (Selfridge).

LRA Name: Chesterfield Township Local Redevelopment Authority.

Point of Contact: Mr. Jim Ellis, Supervisor, Chesterfield Township.

Address: 47275 Sugarbush, Chesterfield Township, MI 48047.

Phone: (586) 949-0400.

Dated: April 21, 2006.
L.M. Bynum,
OSD Federal Register Liaison Officer, Department of Defense.

[FR Doc. 06-3978 Filed 4-26-06; 8:45am]

BILLING CODE 5001-06-M